DEPARTMENT OF AGRICULTURE

Forest Service

Bridger-Teton National Forest-Wyoming—Kemmerer and Greys River Ranger Districts; Lincoln County, WY Salt Pass Grazing Allotments Environmental Impact Statement.

AGENCY: Forest Service, USDA.

ACTION: Notice of intent to prepare an environmental impact statement.

SUMMARY: The Department of Agriculture, Forest Service, will prepare An Environmental Impact Statement (EIS) to analyze the effects of domestic livestock grazing in the Salt Pass area. The Salt Pass Grazing Allotments (composed of Giraffe, Lower Salt, Porcupine, Smiths Fork, Buckskin Knoll, Lake Alice, North Salt River, South Salt River domestic sheep allotments and Trespass domestic cattle allotment) are located in Township 28, 29, 30 North, and Range 116, 117, 118, 119 West; Sixth Principal Meridian. The allotments are located entirely within Lincoln County. The allotments are located on two ranger districts, Kemmerer and Greys River. The Kemmerer Ranger District administers all the allotments except North Salt River and South Salt River, which are administered by the Greys River Ranger District.

DATES: Comments concerning the scope of the analysis must be received by December 17, 2005. The draft environmental impact statement is expected in April 2005 and the final environmental impact statement is expected by July 2005.

ADDRESSES: Send written comments to: Russ Bacon, District Ranger, Kemmerer Ranger District, P.O. Box 31, Kemmerer, Wyoming 83101. For further information, mail correspondence to mailroom_r4_bridger_teton@fs.fed.us and on the subject line put only “Salt Pass Allotments”.

FOR FURTHER INFORMATION CONTACT: Russ Bacon, Kemmerer District Ranger, Kemmerer Ranger District, P.O. Box 31, Kemmerer, Wyoming 83101 or phone (307) 877-4415.

SUPPLEMENTARY INFORMATION:

Purpose and Need for Action

This proposal, in part, is to comply with Public Law 104-19, section 504(a): establish and adhere to a schedule for the completion of National Environmental Policy Act (NEPA) of 1969 (42 U.S.C. 4321 et seq.) analysis and decision on all grazing allotments within the National Forest System unit for which NEPA is needed (Pub. L. 104-19, General Provision 1995). Upon completion of the NEPA analysis and decisions for the allotments, the terms and conditions of the existing grazing permits will be modified, as necessary, to conform to such NEPA analysis. In addition, the purpose of the proposed action is to improve range condition and trend and achieve desired conditions within the project area through livestock grazing.

Proposed Action

The proposed action is to authorize continued livestock grazing, provide analysis and data to update allotment management plans (AMPs), and allow livestock grazing that meets or moves existing resources conditions toward desired conditions on National Forest grazing allotments while complying with applicable statutes. Adaptive management, which allows flexibility during the implementation of the grazing strategy, would allow managers to make adjustments and corrections to management based on monitoring.

Possible Alternatives

Grazing as Currently Permitted: Although allotment management plans (AMP's) would be prepared for each of the nine allotments, the grazing management practices specified for the allotments with existing AMP's would not be changed. In addition, no new utilization standards would be initiated to move existing resource conditions in the project area toward the desired future conditions (DFC's) specified in the Forest Plan.

No Grazing by Domestic Livestock (No grazing alternative): This would eliminate livestock grazing in the project area. This alternative was developed to demonstrate the effects that eliminating livestock grazing would have on the environment and to more clearly illustrate the potential effects of implementing other alternatives. Under this alternative, domestic livestock grazing on all nine allotments within the project area would be phased out over several years as existing Term Grazing Permits expire.

Responsible Official

Russell Bacon, District Forest Ranger, Kemmerer Ranger District, P.O. Box 31, Kemmerer, Wyoming 83101 and Charlene Bucha-Gentry, District Forest Ranger, Greys River Ranger District, P.O. Box 339, Afton, Wyoming 83110.

Nature of Decision To Be Made

The decision, which is based on this analysis, will be to decide if livestock will be allowed to graze on the allotment complex, either through the implementation of the proposed action, or an alternative to the proposed action. The decision would include any mitigation measures needed in addition to those prescribed in the Forest Plan.

Scoping Process

Forest Service is seeking information, comments, and assistance from individuals, organizations, tribal governments, and federal, state, and local agencies interested in or affected by this project. This analysis is for nine grazing allotments. The decision will have limited environmental effects outside the allotment boundaries, and the economic impacts are localized. Public participation will be solicited by notifying in person and/or by mail known interested affected publics. News releases will be used to give the public general notice. Public participation activities would include requests for written comments. The first formal opportunity to comment is to respond to this notice of intent, which initiates the scoping process (40 CFR 1501.7). Scoping includes: (1) Identifying potential issues, (2) narrowing the potential issues and identifying significant issues of those that have been covered by prior environmental review, (3) exploring alternatives in addition to No Action, and (4) identifying potential environmental effects of the proposed action and alternatives.

Preliminary Issues

The Forest Service has identified the following potential issues. Your input is especially valuable here. It will help us determine which of these merit detailed analysis. It will also help identify additional issues related to the proposed action that may not be listed here.

• Effects of grazing on soil erosion and productivity.

• Effects of grazing on watershed condition and function.

• Effects of grazing on the life cycle of the Bonneville and Snake River cutthroat trout.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of: several court rulings related to public participation in the environmental review process. First, reviewers of draft environmental impact statements must structure their participation in the environmental review of the proposal so that it is meaningful and alerts an agency to the reviewer's position and contention. Vermont Yankee Nuclear Power Corp v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)

Dated: November 4, 2004.
Fred Fouse,
Acting District Ranger.

[FR Doc. 04-25249 Filed 11-12-04; 8:45 am]

BILLING CODE 3410-11-M